FEDERAL RESERVE SYSTEM

Agency Information Collection Activities: Announcement of Board Approval Under Delegated Authority and Submission to OMB

AGENCY: Board of Governors of the Federal Reserve System.

SUMMARY: Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cynthia Ayouch—Division of Research and Statistics, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW.,Washington, DC 20503.

Final approval under OMB delegated authority of the extension for three years, without revision of the following report:

1. Report title: Consolidated Bank Holding Company Report of Equity Investments in Nonfinancial Companies, and the Annual Report of Merchant Banking Investments Held for an Extended Period.

Agency form number: FR Y-12, FR Y12A, respectively.

OMB control number: 7100-0300.

Frequency: FR Y-12: quarterly or semi-annually, FR Y-12A: annually.

Reporters: Bank holding companies (BHCs), financial holding companies (FHCs) and savings and loan holding companies (SLHCs).

Estimated annual reporting hours: FR Y-12: 2,112 hours, FR Y-12A: 126 hours.

Estimated average hours per response: FR Y-12: 16.5 hours, FR Y-12A: 7 hours.

Number of respondents: FR Y-12: 34, FR Y-12A: 18.

General description of report: This collection of information is mandatory pursuant to Section 5(c) of the Bank Holding Company Act (12 U.S.C. 1844(c)) and Section 10 of the Home Owners Loan Act (12 U.S.C. 1467a(b)). The FR Y-12 data are not considered confidential, however, a BHC or SLHC may request confidential treatment pursuant to Sections (b)(4) of the Freedom of Information Act (FOIA) (5 U.S.C. 552(b)(4)). The FR Y-12A data are considered confidential pursuant to sections (b)(4) and (b)(8) of the Freedom of Information Act (5 U.S.C. 552(b)(4) and (b)(8)).

Abstract: The FR Y-12 collects information from certain domestic BHCs and SLHCs on their equity investments in nonfinancial companies on four schedules: Type of Investments, Type of Security, Type of Entity within the Banking Organization, and Nonfinancial Investment Transactions during Reporting Period. The FR Y-12A collects data from FHCs which hold merchant banking investments that are approaching the end of the holding period permissible under Regulation Y. These data serve as an important risk-monitoring device for FHCs active in this business line by allowing the Federal Reserve to monitor an FHC's activity between review dates. These data also serve as an early warning mechanism to identify FHCs whose activities in this area are growing rapidly and therefore warrant special supervisory attention.

Current Actions: On September 21, 2012, the Federal Reserve published a notice in the Federal Register (77 FR 58556) requesting public comment for 60 days on the extension, without revision, of the FR Y-12 and FR Y-12A. The comment period for this notice expired on November 20, 2012. The Federal Reserve did not receive any comments.

Board of Governors of the Federal Reserve System, November 28, 2012.
Robert deV. Frierson,
Secretary of the Board.

[FR Doc. 2012-29102 Filed 11-30-12; 8:45 am]

BILLING CODE 6210-01-P